DEPARTMENT OF TRANSPORTATION

Federal Aviation Administration

14 CFR Part 97

[Docket No. 30374; Amdt. No. 3063]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 27, 2003. The compliance date for each SIAP is specified in the amendatory provisions.

The incorporation by reference of certain publications listed in the regulations is approved by the Director of the Federal Register as of June 27, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on June 20, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

Effective July 10, 2003

Trinidad, CO, Perry Stokes, NDB-A, Amdt 2A

Trinidad, CO, Perry Stokes, RNAV (GPS) RWY3, Orig

Trinidad, CO, Perry Stokes, RNAV (GPS)-B, Orig

Cedar Rapids, IA, The Eastern Iowa, VOR RWY 9, Amdt 16B

Cedar Rapids, IA, The Eastern Iowa, ILS RWY 9, Amdt 16

Cedar Rapids, IA, The Eastern Iowa, ILS RWY 27, Amdt 5

Cedar Rapids, IA, The Eastern Iowa, RNAV (GPS) RWY 9, Orig

Cedar Rapids, IA, The Eastern Iowa, RNAV (GPS) RWY 13, Orig

Cedar Rapids, IA, The Eastern Iowa, RNAV (GPS) RWY 27, Orig

Cedar Rapids, IA, The Eastern Iowa, RNAV (GPS) RWY 31, Orig

Cedar Rapids, IA, The Eastern Iowa, GPS RWY 13, Orig-B, CANCELLED

Cedar Rapids, IA, The Eastern Iowa, GPS RWY 31, Orig-F, CANCELLED

Batesville, MS, Panola County, RNAV (GPS) RWY 19, Orig

Batesville, MS, Panola County, RNAV (GPS) RWY 1, Orig

Jackson, MS, Jackson Intl, RNAV (GPS) RWY 16L, Orig

Jackson, MS, Jackson Intl, RNAV (GPS) RWY 16R, Orig

Jackson, MS, Jackson Intl, RNAV (GPS) RWY 34L, Orig

Jackson, MS, Jackson Intl, RNAV (GPS) RWY 34R, Orig

Jackson, MS, Jackson Intl, GPS RWY 16L, Orig, CANCELLED

Jackson, MS, Jackson Intl, GPS RWY 16R, Orig, CANCELLED

Jackson, MS, Jackson Intl, GPS RWY 34L, Orig, CANCELLED

Jackson, MS, Jackson Intl, GPS RWY 34R, Orig, CANCELLED

Jackson, MS, Jackson Intl, ILS RWY 34L, Amdt 5

Jackson, MS, Jackson Intl, LOC BC RWY 16R, Amdt 5

Jackson, MS, Jackson Intl, NDB RWY 16L, Amdt 5

Jackson, MS, Jackson Intl, ILS RWY 16L, Amdt 7D

Cambridge, NE, Cambridge Muni, NDB RWY 14, Amdt 3B

Cambridge, NE, Cambridge Muni, NDB RWY 32, Amdt 4

Cambridge, NE, Cambridge Muni, RNAV (GPS) RWY 14, Orig

Cambridge, NE, Cambridge Muni, RNAV (GPS) RWY 32, Orig

Cambridge, NE, Cambridge Muni, GPS RWY 32, Orig, CANCELLED

Effective September 4, 2003

Almyra, AR, Almyra Muni, VOR/DME-A, Amdt 5

Almyra, AR, Almyra Muni, RNAV (GPS) RWY 35, Orig

Almyra, AR, Almyra Muni, GPS RWY 35, Orig, CANCELLED

Griffin, GA, Griffin-Spalding County, VOR/DME RWY 14, Amdt 4B, CANCELLED

Hampton, GA, Clayton County-Tara Field, VOR/DME-A, Orig-A, CANCELLED

Le Mars, IA, Le Mars Muni, NDB RWY 18, Amdt 10, CANCELLED

Norton, KS, Norton Muni, NDB RWY 16, Amdt 1

Norton, KS, Norton Muni, NDB RWY 34, Amdt 1

Norton, KS, Norton Muni, RNAV (GPS) RWY 16, Orig

Norton, KS, Norton Muni, RNAV (GPS) RWY 34, Orig

Brookfield, MO, North Central Missouri Regional, RNAV (GPS) RWY 18, Orig

Brookfield, MO, North Central Missouri Regional, RNAV (GPS) RWY 36, Orig

Chickasha, OK, Chickasha Muni, VOR/DME-A, Amdt 1

Chickasha, OK, Chickasha Muni, NDB RWY 17, Amdt 1

Chickasha, OK, Chickasha Muni, VOR/DME RNAV RWY 35, Amdt 2

Chickasha, OK, Chickasha Muni, RNAV (GPS) RWY 17, Orig

Chickasha, OK, Chickasha Muni, RNAV (GPS) RWY 35, Orig

Chickasha, OK, Chickasha Muni, GPS RWY 17, Orig-A, CANCELLED

Chickasha, OK, Chickasha Muni, GPS RWY 35, Orig-A, CANCELLED

Cushing, OK, Cushing Muni, NDB RWY 36, Amdt 4

Cushing, OK, Cushing Muni, RNAV (GPS) RWY 36, Orig

Miami, OK, Miami Muni, VOR/DME-A, Amdt 2

Miami, OK, Miami Muni, RNAV (GPS) RWY 17, Orig

Miami, OK, Miami Muni, GPS RWY 17, Orig-A, CANCELLED

Crossville, TN, Crossville Memorial-Whitson Field, ILS RWY 26, Amdt 12

New Braunfels, TX, New Braunfels Muni, RNAV (GPS) RWY 35, Orig

New Braunfels, TX, New Braunfels Muni, GPS RWY 35, Amdt 1, CANCELLED

Louisa, VA, Louisa County/Freeman Field, LOC RWY 27, Amdt 1

The FAA published the following procedures in Docket No. 30372; Amdt. No. 3061 to Part 97 of the Federal Aviation Regulations (Vol. 68, FR No. 115, Page 35539; dated Monday, June 16, 2003) under sections 97.23 and 97.33 as rescinded. The following procedures are hereby reinstated and will be published effective July 10, 2003:

Window Rock, AZ, Window Rock, VOR/DME-A, Orig-C

Window Rock, AZ, Window Rock, RNAV (GPS)-B, Orig

Window Rock, AZ, Window Rock, RNAV (GPS) RWY 2, Orig

Window Rock, AZ, Window Rock, VOR/DME RNAV OR GPS RWY 2, Amdt 1, CANCELLED

[FR Doc. 03-16225 Filed 6-26-03; 8:45 am]

BILLING CODE 4910-13-M